FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012492.

Title: Schuyler Line/US Ocean Space Charter and Cooperative Working Agreement.

Parties: Schuyler Line Navigation Company, L.L.C. and U.S. Ocean, L.L.C.

Filing Party: Bryant Gardner; Winston & Strawn LLP; 1700 K Street NW., Washington, DC 20006.

Synopsis: The Agreement would authorize the parties to charter space to each other and cooperate in a pooling arrangement between the U.S. and certain countries in Africa, Europe, the Mediterranean, South and Central America, and the Caribbean.

By Order of the Federal Maritime Commission.
Dated: October 3, 2017.
Rachel E. Dickon,
Assistant Secretary.

[FR Doc. 2017-21564 Filed 10-5-17; 8:45 am]

BILLING CODE 6731-AA-P